DEPARTMENT OF TRANSPORTATION

Federal Motor Carrier Safety Administration

[Docket No. FMCSA-2018-0139]

Qualification of Drivers; Exemption Applications; Hearing

AGENCY: Federal Motor Carrier Safety Administration (FMCSA), DOT.

ACTION: Notice of applications for exemption; request for comments.

SUMMARY: FMCSA announces receipt of applications from 29 individuals for an exemption from the hearing requirement in the Federal Motor Carrier Safety Regulations (FMCSRs) to operate a commercial motor vehicle (CMV) in interstate commerce. If granted, the exemptions would enable these hard of hearing and deaf individuals to operate CMVs in interstate commerce.

DATES: Comments must be received on or before September 27, 2019.

ADDRESSES: You may submit comments identified by the Federal Docket Management System (FDMS) Docket No. FMCSA-2018-0139 using any of the following methods:

• Federal eRulemaking Portal: Go to http://www.regulations.gov. Follow the online instructions for submitting comments.

• Mail: Docket Management Facility; U.S. Department of Transportation, 1200 New Jersey Avenue SE, West Building Ground Floor, Room W12-140, Washington, DC 20590-0001.

• Hand Delivery: West Building Ground Floor, Room W12-140, 1200 New Jersey Avenue SE, Washington, DC, between 9 a.m. and 5 p.m., ET, Monday through Friday, except Federal Holidays.

• Fax: 1-202-493-2251.

To avoid duplication, please use only one of these four methods. See the “Public Participation” portion of the SUPPLEMENTARY INFORMATION section for instructions on submitting comments.

FOR FURTHER INFORMATION CONTACT: Ms. Christine A. Hydock, Chief, Medical Programs Division, (202) 366-4001, fmcsamedical@dot.gov, FMCSA, Department of Transportation, 1200 New Jersey Avenue SE, Room W64-224, Washington, DC 20590-0001. Office hours are 8:30 a.m. to 5 p.m., ET, Monday through Friday, except Federal holidays. If you have questions regarding viewing or submitting material to the docket, contact Docket Services, telephone (202) 366-9826.

SUPPLEMENTARY INFORMATION:

I. Public Participation

A. Submitting Comments

If you submit a comment, please include the docket number for this notice (Docket No. FMCSA-2018-0139), indicate the specific section of this document to which each comment applies, and provide a reason for each suggestion or recommendation. You may submit your comments and material online or by fax, mail, or hand delivery, but please use only one of these means. FMCSA recommends that you include your name and a mailing address, an email address, or a phone number in the body of your document so that FMCSA can contact you if there are questions regarding your submission.

To submit your comment online, go to http://www.regulations.gov, put the docket number, FMCSA-2018-0139, in the keyword box, and click “Search.” When the new screen appears, click on the “Comment Now!” button and type your comment into the text box on the following screen. Choose whether you are submitting your comment as an individual or on behalf of a third party and then submit.

If you submit your comments by mail or hand delivery, submit them in an unbound format, no larger than 8½ by 11 inches, suitable for copying and electronic filing. If you submit comments by mail and would like to know that they reached the facility, please enclose a stamped, self-addressed postcard or envelope.

FMCSA will consider all comments and material received during the comment period.

B. Viewing Documents and Comments

To view comments, as well as any documents mentioned in this notice as being available in the docket, go to http://www.regulations.gov. Insert the docket number, FMCSA-2018-0139, in the keyword box, and click “Search.” Next, click the “Open Docket Folder” button and choose the document to review. If you do not have access to the internet, you may view the docket online by visiting the Docket Management Facility in Room W12-140 on the ground floor of the DOT West Building, 1200 New Jersey Avenue SE, Washington, DC 20590, between 9 a.m. and 5 p.m., ET, Monday through Friday, except Federal holidays.

C. Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

II. Background

Under 49 U.S.C. 31136(e) and 31315, FMCSA may grant an exemption from the FMCSRs for a five-year period if it finds such exemption would likely achieve a level of safety that is equivalent to, or greater than, the level that would be achieved absent such exemption. The statute also allows the Agency to renew exemptions at the end of the five-year period. FMCSA grants exemptions from the FMCSRs for a two-year period to align with the maximum duration of a driver's medical certification.

The 29 individuals listed in this notice have requested an exemption from the hearing requirement in 49 CFR 391.41(b)(11). Accordingly, the Agency will evaluate the qualifications of each applicant to determine whether granting the exemption will achieve the required level of safety mandated by statute.

The physical qualification standard for drivers regarding hearing found in 49 CFR 391.41(b)(11) states that a person is physically qualified to drive a CMV if that person first perceives a forced whispered voice in the better ear at not less than 5 feet with or without the use of a hearing aid or, if tested by use of an audiometric device, does not have an average hearing loss in the better ear greater than 40 decibels at 500 Hz, 1,000 Hz, and 2,000 Hz with or without a hearing aid when the audiometric device is calibrated to American National Standard (formerly ASA Standard) Z24.5—1951.

This standard was adopted in 1970 and was revised in 1971 to allow drivers to be qualified under this standard while wearing a hearing aid, 35 FR 6458, 6463 (April 22, 1970) and 36 FR 12857 (July 3, 1971).

On February 1, 2013, FMCSA announced in a Notice of Final Disposition titled, Qualification of Drivers; Application for Exemptions; National Association of the Deaf, (78 FR 7479), its decision to grant requests from 40 individuals for exemptions from the Agency's physical qualification standard concerning hearing for interstate CMV drivers. Since the February 1, 2013 notice, the Agency has published additional notices granting requests from hard of hearing and deaf individuals for exemptions from the Agency's physical qualification standard concerning hearing for interstate CMV drivers.

III. Qualifications of Applicants

David O. Barnett

Mr. Barnett, age 53, holds an operator's license in Alabama.

Zachary Bruce-Hurst

Mr. Bruce-Hurst, age 27, holds an operator's license in Florida

Azulita Jane Camacho

Ms. Camacho, age 24, holds an operator's license in California.

Malcolm Collins

Mr. Collins, age 77, holds a class A CDL in Missouri.

Wayne Crowl

Mr. Crowl, age 53, holds a class A CDL in Indiana.

Robert Culp

Mr. Culp, age 45, holds a class A CDL in Florida.

Charles Wesley Davis

Mr. Davis, age 38, holds an operator's license from Alabama.

Christopher Fisher

Mr.Fisher, age 47, holds a class A CDL in Washington.

Ariel Gonzalez

Mr. Gonzalez, age 21, holds an operator's license in Rhode Island.

Adrian Jiminez

Mr. Jiminez, age 26, holds an operator's license in California.

Steven L. Johnson

Mr. Johnson, age 70, holds an operator's license in Tennessee.

Virginia M. Kammerer

Ms. Kammerer, age 55, holds an operator's license in New Jersey.

Keith C. Kenyon

Mr. Kenyon, age 43, holds an operator's license in Wisconsin.

Richard Melikian

Mr. Melikian, age 47, holds an operator's license in New York.

Paul J. Pitre

Mr. Pitre, age 55, holds a class C CDL in Alabama.

Dion Prewitt

Mr. Prewitt, age 44, holds an operator's license in Illinois.

John M. Price, Jr.

Mr. Price, age 42, holds an operator's license in Texas.

Marcel James Rambin II

Mr. Rabin, age 39, holds a class A CDL in Texas.

Aleksandr M. Riabinin

Mr. Riabinin, age 25, holds an operator's license in Washington.

Satwinder Sandher

Mr. Sandher, age 43, holds an operator's license in California.

Dustin E. Selby

Mr. Shelby, age 40, holds an operator's license in Ohio.

Kerry Stewart

Mr. Stewart, age 54, holds an operator's license in Indiana.

Andrew Tessin

Mr. Tessin, age 32, holds a class A CDL in North Carolina.

Corey N. Thompson

Mr. Thompson, age 42, holds a class A CDL in Texas.

Aleksandr Turchin

Mr. Turchin, age 52, holds an operator's license in Washington.

Daniel Turchin

Mr. Turchin, age 21, holds an operator's license in Washington.

Gary Harrison Wallace

Mr. Wallace, age 63, holds a class A CDL in North Carolina.

Honna Waymire

Ms. Waymire, age 54, holds an operator's license in Ohio.

Charles Wozniak

Mr. Wozniak, age 74, holds a class A CDL in New Jersey.

IV. Request for Comments

In accordance with 49 U.S.C. 31136(e) and 31315, FMCSA requests public comment from all interested persons on the exemption petitions described in this notice. We will consider all comments received before the close of business on the closing date indicated in the dates section of the notice.

Issued on: August 16, 2019.
Larry W. Minor,
Associate Administrator for Policy.

[FR Doc. 2019-18575 Filed 8-27-19; 8:45 am]

BILLING CODE 4910-EX-P